DEPARTMENT OF COMMERCE

National Oceanic and Atmospheric Administration

[RTID 0648-XD187]

Pacific Fishery Management Council; Public Meetings

AGENCY: National Marine Fisheries Service (NMFS), National Oceanic and Atmospheric Administration (NOAA), Commerce.

ACTION: Notice of public meetings.

SUMMARY: The Pacific Fishery Management Council's (Pacific Council) Groundfish Subcommittee of the Scientific and Statistical Committee (SSC) will hold two online meetings to review 2023 groundfish stock assessments. These online meetings are open to the public.

DATES: The first online meeting will be held Monday, August 14, 2023 and will continue through Tuesday, August 15, 2023, from 8:30 a.m. until 5:30 p.m. (Pacific Daylight Time) or when business for the day has been completed. The second online meeting will be held Monday, August 28, 2023 and will continue through Tuesday, August 29, 2023, from 8:30 a.m. until 5:30 p.m. (Pacific Daylight Time) or when business for the day has been completed.

ADDRESSES: These meetings will be conducted online. Specific meeting information, materials, and instructions for how to connect to the meeting remotely will be provided in the meeting announcement on the Pacific Council's website (see www.pcouncil.org). Please send an email to Kris Kleinschmidt (kris.kleinschmidt@noaa.gov) or contact via phone at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The SSC's Groundfish Subcommittee will review new assessments and stock assessment review (STAR) reports for copper rockfish in California, rex sole, shortspine thornyhead, and black rockfish on August 14-15, 2023. On August 28-29, 2023, assessments and STAR reports for canary rockfish and petrale sole, as well as a catch-only projection for widow rockfish, and a limited assessment update for sablefish will be reviewed. Further, the SSC Groundfish Subcommittee will review a catch report for yelloweye rockfish to determine the adequacy of rebuilding progress. The SSC Groundfish Subcommittee will prepare their recommendations for the SSC and Pacific Council consideration at their meetings in September. Assessment recommendations may include endorsing these new stock assessments for management use or requesting further analyses to be reviewed at the late September review panel (this process is outlined in the Pacific Council's Terms of Reference for the Groundfish Stock Assessment Review Process for 2023-2024 which can be found here: https://www.pcouncil.org/documents/2022/06/terms-of-reference-for-the-groundfish-stock-assessment-review-process-for-2023-2024-june-2022.pdf/.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Kris Kleinschmidt (kris.kleinschmidt@noaa.gov; (503) 820-2412) at least 10 days prior to the meeting date.

Authority: 16 U.S.C. 1801 et seq.

Dated: July 24, 2023.
Rey Israel Marquez,
Acting Deputy Director, Office of Sustainable Fisheries, National Marine Fisheries Service.

[FR Doc. 2023-15970 Filed 7-27-23; 8:45 am]

BILLING CODE 3510-22-P